ENVIRONMENTAL PROTECTION AGENCY

[OPP-2003-0361; FRL-7336-2]

Bacillus thuringiensis Cry2Ab2 Protein and the Genetic Material Necessary for its Production in Cotton; Notice of Filing a Pesticide Petition to Amend a Tolerance Exemption for a Certain Pesticide Chemical in or on Food

AGENCY: Environmental Protection Agency (EPA).

ACTION: Notice.

SUMMARY: This notice announces the initial filing of a pesticide petition proposing the establishment of regulations for residues of a certain pesticide chemical in or on various food commodities.

DATES: Comments, identified by docket ID number OPP-2003-0361, must be received on or before January 9, 2004.

ADDRESSES: Comments may be submitted electronically, by mail, or through hand delivery/courier. Follow the detailed instructions as provided in Unit I. of the SUPPLEMENTARY INFORMATION.

FOR FURTHER INFORMATION CONTACT: Leonard Cole, Biopesticides and Pollution Prevention Division (7511C), Office of Pesticide Programs, Environmental Protection Agency, 1200 Pennsylvania Ave., NW., Washington, DC 20460-0001; telephone number: (703) 305-5412; e-mail address: cole.leonard@epa.gov.

SUPPLEMENTARY INFORMATION:

I. General Information

A. Does this Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket ID number OPP-2003-0361. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/

An electronic version of the public docket is available through EPA's electronic public docket and comment system, EPA Dockets. You may use EPA Dockets at http://www.epa.gov/edocket/ to submit or view public comments, access the index listing of the contents of the official public docket, and to access those documents in the public docket that are available electronically. Although, not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although, not all docket materials may be available electronically, you may still access any of the publicly available docket materials through the docket facility identified in Unit I.B.1. EPA intends to work towards providing electronic access to all of the publicly available docket materials through EPA's electronic public docket.

For public commenters, it is important to note that EPA's policy is that public comments, whether submitted electronically or on paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also, include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2003-0361. The system is an “anonymous access” system, which means EPA will not know your identity, e-mail address, or other contact information unless you provide it in the body of your comment.

ii. E-mail. Comments may be sent by e-mail to opp-docket@epa.gov, Attention: Docket ID number OPP-2003-0361. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID number OPP-2003-0361.

3. By hand delivery or courier. Deliver your comments to: Public Information and Records Integrity Branch (PIRIB), Office of Pesticide Programs (OPP), Environmental Protection Agency, Rm. 119, Crystal Mall #2, 1921 Jefferson Davis Hwy., Arlington, VA, Attention: Docket ID number OPP-2003-0361. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Make sure to submit your comments by the deadline in this notice.

7. To ensure proper receipt by EPA, be sure to identify the docket ID number assigned to this action in the subject line on the first page of your response. You may also provide the name, date, and Federal Register citation.

II. What Action is the Agency Taking?

EPA has received a pesticide petition as follows proposing the establishment and/or amendment of regulations for residues of a certain pesticide chemical in or on various food commodities under section 408 of the Federal Food, Drug, and Cosmetic Act (FFDCA), 21 U.S.C. 346a. EPA has determined that this petition contains data or information regarding the elements set forth in FFDCA section 408(d)(2); however, EPA has not fully evaluated the sufficiency of the submitted data at this time or whether the data support granting of the petition. Additional data may be needed before EPA rules on the petition.

List of Subjects

Environmental protection, Agricultural commodities, Feed additives, Food additives, Pesticides and pests, Reporting and recordkeeping requirements.

Dated: November 19, 2003.
Phil Hutton,
Acting Director, Biopesticides and Pollution Prevention Division, Office of Pesticide Programs.

Summary of Petition

The petitioner's summary of the pesticide petition is printed below as required by FFDCA section 408(d)(3). The summary of the petition was prepared by the Monsanto Company and represents the view of the petitioner. The petition summary announces the availability of a description of the analytical methods available to EPA for the detection and measurement of the pesticide chemical residues or an explanation of why no such method is needed.

Monsanto Company

PP 7F4888

EPA has received a request (PP 7F4888) from Monsanto Company, 800 N. Lindberg Blvd., St. Louis, MO 63167, proposing pursuant to section 408(d) of the Federal Food, Drug, and Cosmetic Act (FFDCA), 21 U.S.C. 346a(d), to amend 40 CFR part 180, by removing the time limitation for the exemption from the requirement of a tolerance for the plant-incorporated protectant Bacillus thuringiensis (Bt) Cry2Ab2 protein and the genetic material necessary for its production in cotton or on cotton. The tolerance exemption was originally requested under pesticide petition number (PF 7F4888).

Pursuant to section 408(d)(2)(A)(i) of the FFDCA, as amended, Monsanto Company has submitted the following summary of information, data, and arguments in support of their pesticide petition. This summary was prepared by Monsanto Company and EPA has not fully evaluated the merits of the pesticide petition. The summary may have been edited by EPA if the terminology used was unclear, the summary contained extraneous material, or the summary unintentionally made the reader conclude that the findings reflected EPA's position and not the position of the petitioner.

A. Product Name and Proposed Use Practices

Using plant molecular biology methods, Monsanto developed the Cry2Ab2 protein expressed in cotton plants. The production of Cry2Ab2 protein provides highly effective and selective control of lepidopteran insect pests in cotton. Plants producing this protein are derived from plants transformed with the Cry2ab2 gene and the genetic material necessary for its expression in cotton. Cotton plants using the Cry2Ab2 protein provide increased spectrum of activity over present products and in combination with existing technologies has the potential to increase the durability of the Bt proteins currently used for insect protection in cotton and increase the opportunities for integrated pest management.

B. Product Identity/Chemistry

1. Identity of the pesticide and corresponding residues. The Cry2Ab2 protein is derived from Bacillus thuringiensis class of Cry2A proteins which are designated to have a greater than 95% sequence identity. Data characterizing the Cry2Ab2 protein used in cotton have been submitted to EPA. Because it would be difficult, or impossible, to extract sufficient biologically active protein from plants to perform safety tests, Cry2Ab2 protein from bacteria was produced. Product analysis data show that the microbially expressed and purified Cry2Ab2 delta-enodtoxin is sufficiently similar to that expressed in the plant to be used for safety assessment purposes. Plant- and microbially produced Cry2Ab2 delta-endotoxins were shown by these studies to have similar molecular weights and immunoreactivity (SDS-PAGE and Western blots), to lack detectable post-translational modification (glycosylation), to have identical amino acid sequences in the N-terminal region and to have similar results in bioassays against Heliothus vierscens and Heliocoverpa zea. The combined results of the above studies indicate a high probability that these two sources produce proteins that are essentially identical by available protein analytical assays.

2. Magnitude of residue at the time of harvest and method used to determine the residue. The Cry2Ab2 protein is derived from Bacillus thuringiensis class of Cry2A proteins which are designated to have a greater than 95% sequence identity. Data characterizing the Cry2Ab2 protein used in cotton have been submitted to EPA, because it would be difficult, or impossible, to extract sufficient biologically active protein from plants to perform safety tests, Cry2Ab2 protein from bacteria was produced. Product analysis data show that the microbially expressed and purified Cry2Ab2 delta-enodtoxin is sufficiently similar to that expressed in the plant to be used for safety assessment purposes. Plant- and microbially produced Cry2Ab2 delta-endotoxins were shown by these studies to have similar molecular weights and immunoreactivity (SDS-PAGE and Western blots), to lack detectable post-translational modification (glycosylation), to have identical amino acid sequences in the N-terminal region and to have similar results in bioassays against Heliothus vierscens and Heliocoverpa zea. The combined results of the above studies indicate a high probability that these two sources produce proteins that are essentially identical by available protein analytical assays.

3. A statement of why an analytical method for detecting and measuring the levels of the pesticide residue are not needed. A validated extraction and qualitative analytical method (ELISA) for the detection of Cry2Ab2 protein has been submitted to the Agency.

C. Mammalian Toxicological Profile

The data submitted regarding potential health effects of Cry2Ab2 include information on the characterization of the expressed protein in cotton. The acute oral toxicity data submitted support the determination that the Cry2Ab2 protein is non-toxic to humans. When proteins are toxic, they are known to act via acute mechanisms and at very low dose levels.

The acute oral toxicity data submitted support the prediction that the Cry2Ab2 protein would be non-toxic to humans. Male and female mice (10 of each) were dosed with 67,359 and 1,450 milligrams/kilogram body weight (mg/kg bwt) of Cry2Ab2 protein. Outward clinical signs were observed and body weights recorded throughout the 14-day study. Gross necropsies performed at the end of the study indicated no findings of toxicity attributed to exposure to the test substance. No mortality or clinical signs attributed to the test substance were noted during the study. When proteins are toxic, they are known to act via acute mechanisms and at very lose dose levels (Sjoblad, Roy D., et al. “Toxicological Considerations for Protein Components of Biological Pesticide Products,” Regulatory Toxicology and Pharmacolocy 15, 3-9 (1992)). Therefore, because no effects were shown to be caused by the Cry2Ab2 proteins, even at relatively high dose levels, the Cry2Ab2 protein is not considered to be toxic. Furthermore, amino acid sequence comparisons showed no similarity between Cry2Ab2 proteins and known toxic proteins available in public protein data bases.

Data were submitted that demonstrate that the Cry2Ab2 delta-toxin is rapidly degraded by gastric fluid in vitro. In a solution of simulated gastric fluid (U.S. Pharmacopeia), complete degradation of detectable Cry2Ab2 protein occured within 15 seconds. Incubation in simulated intestinal fluid resulted in a 50 kDa protein digestion product. A comparison of amino acid sequences of know allergens uncovered no evidence of any homology with Cry2Ab2.

Collectively, the submitted data on Cry2Ab2 protein, as well as the history of safe use with other plant-expressed and microbially produced Bacillus thuringiensis products, establishes the safety of the Cry2Ab2 protein.

The genetic material necessary for the production of the Cry2Ab2 protein is nucleic acid (DNA) which is common to all forms of plant and animal life and there is no instance where these nucleic acids have been associated with toxic effects related to their consumption as a component of food.

D. Aggregate Exposure

1. Dietary exposure—i. Food. Monsanto has considered available information on the aggregate exposure levels of consumers (and major identifiable subgroups of consumers) to the protein residue and to other related substances. These considerations include dietary exposure under the existing tolerance exemption and all other tolerances or exemptions in effect for the plant-incorporated protectant residue, and exposure from non-occupational sources. Oral exposure at very low levels may occur, but lack of mammalian toxicity and digestibility has been demonstrated.

ii. Drinking water. Movement of the Cry2Ab2 protein to drinking water is highly unlikely given that Cry proteins are known to rapidly degrade in the soil. Oral exposure at very low levels may occur but lack of mammalian toxicity and the digestibility of this protein have been demonstrated.

2. Non-dietary exposure. Exposure to Cry2Ab2 proteins via dermal exposure or inhalation is unlikely given that these proteins are contained in the plant and are not exuded and are not volatile. Therefore, worker and bystander exposure resulting from plant pesticides will be negligible and would be unlikely to add measurably to any worker or bystander exposure resulting from microbial or other Bacillus thuringiensis formulations.

E. Cumulative Exposure

Available information on the cumulative effects of such residues and other substances that have a common mechanism of toxicity have been submitted. Because there is no indication of mammalian toxicity from this plant-incorporated protectant, there are no cumulative effects.

F. Safety Determination

1. U.S. population. There is reasonable certainty that no harm will result from aggregate exposure to the U.S. population, including infants and children, to the Cry2Ab2 protein and the genetic material necessary for its production. This includes all anticipated dietary exposures and all other exposures for which there is reliable information. This conclusion is based on the low toxicity of the protein, lack of allergenicity, digestibility, and low dietary exposure.

2. Infants and children. Nondietary exposure to infants and children is not anticipated due to the patterns of use for this plant-incorporated protectant. Submitted data provide no evidence that Cry2Ab2 protein poses any adverse threshold effects that would warrant application of an additional safety factor for the protection of infants and children.

G. Effects on the Immune and Endocrine Systems

The lack of Cry2Ab2 toxicity in high dose acute oral studies and its rapid degradation in a mammalian digestive system suggests minimal risk for adverse effects on the immune system. This pesticidally active ingredient is a protein, derived from sources that are not known to exert an influence on the endocrine system.

H. Existing Tolerances

Bacillus thuringiensis Cry2Ab2 protein and the genetic material necessary for its production in corn and cotton is exempt from the requirement of a tolerance when used as a plant-pesticide in the food and feed commodities of field corn, sweet corn, popcorn, cottonseed, cotton oil, cotton meal, cotton hay, cotton hulls, cotton forage, and cotton gin byproducts (40 CFR 180.1215). Unless amended, this exemption will expire on May 1, 2004.

I. International Tolerances

No Codex maximum residue levels have been established for this plant-incorporated protectant.

[FR Doc. E3-00490 Filed 12-9-03; 8:45 am]

BILLING CODE 6560-50-S